DEPARTMENT OF ENERGY

Federal Energy Regulatory Commission

Combined Notice of Filings #1

Take notice that the Commission received the following electric rate filings:

Docket Numbers: ER10-2895-017; ER10-2917-017; ER10-2918-018; ER10-2920-017; ER10-2921-017; ER10-2922-017; ER10-2966-017; ER10-3167-009; ER11-2292-018; ER11-2293-018; ER11-2294-016; ER11-2383-012; ER11-3941-015; ER11-3942-017; ER12-2447-016; ER13-1613-010; ER13-203-009; ER13-2143-010; ER14-1964-008; ER16-287-003; ER17-482-002; ER11-3417-013; ER10-2460-014; ER10-2461-015; ER10-2463-014; ER10-2466-015; ER10-2895-018; ER10-2917-018; ER10-2918-019; ER10-2920-018; ER10-2921-018; ER10-2922-018; ER10-2966-018; ER10-3167-010; ER10-3178-010; ER11-2201-018; ER11-2292-019; ER11-2293-019; ER11-2294-017; ER11-2383-013; ER11-3941-016; ER11-3942-018; ER11-4029-014; ER12-1311-014; ER12-161-018; ER12-2068-014; ER12-2447-017; ER12-645-019; ER12-682-015; ER13-1139-017; ER13-1346-009; ER13-1613-011; ER13-17-012; ER13-203-010; ER13-2143-011; ER14-1964-009; ER14-25-014; ER14-2630-010; ER16-287-004; ER17-482-003.

Applicants: Bear Swamp Power Company LLC, BIF II Safe Harbor Holdings LLC, BIF III Holtwood LLC, Black Bear Development Holdings, LLC, Black Bear Hydro Partners, LLC, Black Bear SO, LLC, BREG Aggregator LLC, Brookfield Energy Marketing Inc., Brookfield Energy Marketing LP, Brookfield Energy Marketing US LLC, Brookfield Power Piney & Deep Creek LLC, Brookfield Renewable Energy Marketing US LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Rumford Falls Hydro LLC, Safe Harbor Water Power Corporation, Alta Wind VIII, LLC, Bear Swamp Power Company LLC, BIF II Safe Harbor Holdings LLC, BIF III Holtwood LLC, Black Bear Development Holdings, LLC, Black Bear Hydro Partners, LLC, Black Bear SO, LLC, BREG Aggregator LLC, Brookfield Energy Marketing Inc., Brookfield Energy Marketing LP, Brookfield Energy Marketing US LLC, Brookfield Power Piney & Deep Creek LLC, Brookfield Renewable Energy Marketing US, LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC, Bishop Hill Energy LLC, Blue Sky East, LLC, California Ridge Wind Energy LLC, Canandaigua Power Partners, LLC, Canandaigua Power Partners II, LLC, Erie Wind, LLC, Evergreen Wind Power, LLC, Evergreen Wind Power III, LLC, Imperial Valley Solar 1, LLC, Niagara Wind Power, LLC, Prairie Breeze Wind Energy LLC, Regulus Solar, LLC, Stetson Holdings, LLC, Stetson Wind II, LLC, Vermont Wind, LLC.

Description: Supplement to the February 20, 2018 Supplement to Updated Market Power Analysis, et al. for the Northeast Region of the Brookfield Companies, et al.

Filed Date: 7/24/18.

Accession Number: 20180724-5180.

Comments Due: 5 p.m. ET 8/14/18.

Docket Numbers: ER18-1947-001.

Applicants: Alabama Power Company.

Description: Tariff Amendment: Amendment to Southern Company System IIC Amendment Filing to be effective 12/31/9998.

Filed Date: 7/24/18.

Accession Number: 20180724-5139.

Comments Due: 5 p.m. ET 8/14/18.

Docket Numbers: ER18-1948-001.

Applicants: Georgia Power Company.

Description: Tariff Amendment: Amendment of Southern Company System IIC Amendment Filing to be effective 12/31/9998.

Filed Date: 7/24/18.

Accession Number: 20180724-5140.

Comments Due: 5 p.m. ET 8/14/18.

Docket Numbers: ER18-1949-001.

Applicants: Gulf Power Company.

Description: Tariff Amendment: Amendment of Southern Company System IIC Amendment Filing to be effective 12/31/9998.

Filed Date: 7/24/18.

Accession Number: 20180724-5144.

Comments Due: 5 p.m. ET 8/14/18.

Docket Numbers: ER18-1950-001.

Applicants: Mississippi Power Company.

Description: Tariff Amendment: Amendment of Southern Company System IIC Amendment Filing to be effective 12/31/9998.

Filed Date: 7/24/18.

Accession Number: 20180724-5145.

Comments Due: 5 p.m. ET 8/14/18.

Docket Numbers: ER18-1951-001.

Applicants: Southern Power Company.

Description: Tariff Amendment: Amendment of Southern Company System IIC Amendment Filing to be effective 12/31/9998.

Filed Date: 7/24/18.

Accession Number: 20180724-5146.

Comments Due: 5 p.m. ET 8/14/18.

Docket Numbers: ER18-2060-000.

Applicants: American Transmission Systems, Incorporated, PJM Interconnection, L.L.C.

Description: § 205(d) Rate Filing: ATSI submits ECSAs, Service Agreement Nos. 4890, 4891, 4938, 4939, 4964 et al. to be effective 9/30/2018.

Filed Date: 7/25/18.

Accession Number: 20180725-5027.

Comments Due: 5 p.m. ET 8/15/18.

Docket Numbers: ER18-2061-000.

Applicants: NorthWestern Corporation.

Description: Initial rate filing: RS 324—Interface Capacity Settlement Agreement with BPA to be effective9/24/2018.

Filed Date: 7/25/18.

Accession Number: 20180725-5037.

Comments Due: 5 p.m. ET 8/15/18.

Docket Numbers: ER18-2062-000.

Applicants: West Penn Power Company, PJM Interconnection, L.L.C.

Description: § 205(d) Rate Filing: West Penn Power Company submits Amended IA SA No. 3999 to be effective 10/1/2018.

Filed Date: 7/25/18.

Accession Number: 20180725-5110.

Comments Due: 5 p.m. ET 8/15/18.

Docket Numbers: ER18-2063-000.

Applicants: Flemington Solar, LLC.

Description: Baseline eTariff Filing: Reactive Power Rate Filing of Flemington Solar, LLC to be effective 10/1/2018.

Filed Date: 7/25/18.

Accession Number: 20180725-5116.

Comments Due: 5 p.m. ET 8/15/18.

Docket Numbers: ER18-2064-000.

Applicants: Uniper Global Commodities North America LLC.

Description: § 205(d) Rate Filing: UGCNA MBR Tariff Update Change in Status 2018.07.25 to be effective9/24/2018.

Filed Date: 7/25/18.

Accession Number: 20180725-5138.

Comments Due: 5 p.m. ET 8/15/18.

Docket Numbers: ER18-2065-000.

Applicants: Mid-Atlantic Interstate Transmission, LLC, PJM Interconnection, L.L.C.

Description: § 205(d) Rate Filing: MAIT submits IA SA Nos. 3996 and 4577 to be effective 10/1/2018.

Filed Date: 7/25/18.

Accession Number: 20180725-5193.

Comments Due: 5 p.m. ET 8/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2018.
Nathaniel J. Davis, Sr.,
Deputy Secretary.

[FR Doc. 2018-16355 Filed 7-30-18; 8:45 am]

BILLING CODE 6717-01-P